DEPARTMENT OF TRANSPORTATION

National Highway Traffic Safety Administration

[Docket No. NHTSA-2002-13955; Notice 2]

Columbia Body Manufacturing Co.; Grant of Temporary Exemption From Federal Motor Vehicle Safety Standard No. 224

We are granting the application by Columbia Body Manufacturing Co. (“Columbia”) of Clackamas, Oregon, for an exemption of three years from Motor Vehicle Safety Standard No. 224, Rear Impact Protection. Columbia asserted that compliance would cause substantial economic hardship to a manufacturer that has tried in good faith to comply with the standard.

We published a notice of receipt of the application on December 4, 2002, asking for comments from the public (67 FR 72266).

Why Columbia Needs an Exemption

Columbia manufactures and sells a dump body type of trailer (the “trailer”) requiring that the body's front end be lifted in order to discharge the load out of the back. The load is asphalt, used in road construction. This design of trailer generally has an overhang at the rear for funneling asphalt material into a paving machine; consequently, the trailer needs 16 to 18 inches of unobstructed clearance behind its rear wheels to hook up with the paving machine and dump its load. Standard No. 224 specifies that the rearmost surface of an underride guard to be located not more than 305mm (12 inches) from the “rear extremity” of the trailer.

Standard No. 224 requires, effective January 26, 1998, that all trailers with a GVWR of 4536 kg or more, including Columbia's, be fitted with a rear impact guard that conforms to Standard No. 223 Rear impact guards. Columbia argued that installation of the rear impact guard would prevent its trailer from operating with the paving machine, and “would interfere with the hook-up of the asphalt machine and dump operation of the trailer.” Columbia averred that it “has investigated the retrofit and modifications needed to bring our products into compliance with FMVSS 224 without success.” We discuss below its efforts to conform in greater detail.

Columbia's Reasons Why it Believes That Compliance Would Cause It Substantial Economic Hardship and That It Has Tried in Good Faith To Comply With Standard No. 224

Columbia is a small volume manufacturer. Its average production over the past three years has been 12 trailers a year, “none of which were asphalt paving trailers.” Normally, it would produce 10 to 40 trailers annually. The company employs 30 people full time and has annual sales of $4-5,000,000. Columbia “has had requests to quote on 14” trailers and “14 truck mounted dump boxes, bringing the total sales figure to around $750,000.00.” Absent an exemption, Columbia “will be unable to quote these units substantially decreasing our projected sales figures.” Its application reflected that its cumulative net loss for the fiscal years 1998, 1999, and 2000 was $99,764. We asked Columbia to provide data on its fiscal year ending December 31, 2001, while the application was pending, and the company replied that its net loss for 2001 was $755,722.19.

Columbia asserted that it has sought manufacturers of underride guards since 1998. As a result of its search,

We only found one English company, Quinton-Hazell that is no longer making either type, telescoping or hydraulic. Their research found that because of the expense of these two types of guards they would not be marketable. We have also investigated the work done by SRAC, located in Los Angeles, CA in the hopes that we might be able to use or modify the guards they designed for the trailers we wish to build. Neither was suitable because retracting the bumper and finding a way to keep the build up of asphalt off of any moving parts was not possible.

The company stated that it intended to continue to try and resolve the problems through continued research.

Columbia's Reasons Why It Believes That a Temporary Exemption Would Be in the Public Interest and Consistent With Objectives of Motor Vehicle Safety

Columbia argued that an exemption would be in the public interest and consistent with traffic safety objectives because, “our type of trailer helps state and municipal governments to produce the safe highways that are needed.” It contemplates building less than 50 units a year while an exemption is in effect. According to Columbia, the amount of time actually spent on the road is limited because of the need to move the asphalt to the job site before it hardens.

Public Comment on the Application

We received one comment in response to our notice of December 4, 2002. The National Truck Equipment Association (NTEA) recommended granting the petition, commenting that “the type of trailer for which Columbia Body is representing a temporary exemption is vital to the proper construction and maintenance of the highways.” Like the applicant, NTEA was “unaware of any device that would meet the requirements of FMVSS 224 while allowing this particular type of trailer to perform its intended function.” It reminded us that we have temporarily exempted similar types of trailers from compliance with Standard No. 224.

The Agency's Findings in Support of an Exemption

Columbia's present average production of only 12 trailers a year has been insufficient to generate a net profit for the company, and its net loss of over $750,000 in 2001 reflects a severe downturn in the company's financial fortunes. It anticipates that it could realize $750,000 in sales of 14 trailers of the type for which it has requested exemption, and for which potential customers have requested a price quotation. The company has investigated, unsuccessfully, means of compliance with Standard No. 224. There seems to be agreement, as indicated by NTEA's comment, that there is no feasible way for these trailers to be brought into compliance without compromising the function for which they were designed.

The public interest is served by allowing the production of these special-purpose road construction trailers, balanced against the limited number in which they are produced and the relatively limited time that they spend in transit on the public roads from one job site to another. Further, there is no substantial difference between Columbia Body's petition and other hardship applications that we have granted in the past (e.g., Red River Manufacturing, Inc. and Dan Hill & Associates, Inc., 66 FR 20028).

Accordingly, for the reasons set above, we hereby find that compliance with Standard No. 224 would cause substantial economic hardship to Columbia Body, which has tried in good faith to comply with Standard No. 224, and we further find that an exemption would be in the public interest and consistent with the objectives of traffic safety. We accordingly grant NHTSA Temporary Exemption No. 2003-1 to Columbia Body Manufacturing Co. for its dump body type trailer only, from 49 CFR 571.224 Standard No. 224, Rear Impact Protection, expiring February 1, 2006.

Authority: 49 U.S.C. 30113; delegations of authority at 49 CFR 1.50 and 501.4.

Issued on February 10, 2003.
Jeffrey W. Runge,
Administrator.

[FR Doc. 03-3588 Filed 2-12-03; 8:45 am]

BILLING CODE 4910-59-P